DEPARTMENT OF COMMERCE

National Oceanic and Atmospheric Administration

RIN 0648-PR-A003

Marine Mammals; File No. 22629

AGENCY: National Marine Fisheries Service (NMFS), National Oceanic and Atmospheric Administration (NOAA), Commerce.

ACTION: Notice; receipt of application.

SUMMARY: Notice is hereby given that Mystic Aquarium (Responsible Party: Stephen M. Coan, Ph.D.), has applied in due form for a permit to import five beluga whales (Delphinapterus leucas) for scientific research.

DATES: Comments must be received on or before December 2, 2019.

ADDRESSES: The permit application is available for review online at https://www.fisheries.noaa.gov/action/permit-application-import-5-beluga-whales-scientific-research-file-no-22629-mystic-aquarium or upon written request or by appointment in the Permits and Conservation Division, Office of Protected Resources, NMFS, 1315 East-West Highway, Room 13705, Silver Spring, MD 20910; phone (301) 427-8401; fax (301) 713-0376.

You may submit comments, identified by NOAA-NMFS-2019-0113, by any of the following methods:

• Electronic Submission: Submit electronic public comments via the Federal e-Rulemaking Portal www.regulations.gov. To submit comments via the e-Rulemaking Portal, enter NOAA-NMFS-2019-0113 in the keyword search. Locate the document you wish to comment on from the resulting list and click on the “Comment Now” icon on the right of that line.

• Mail: Comments on the application should be addressed to: Permits and Conservation Division, Office of Protected Resources, NMFS, 1315 East-West Highway, Room 13705, Silver Spring, MD 20910; ATTN: Jolie Harrison, Chief, Permits and Conservation Division.

• Fax: (301) 713-0376; ATTN: Jolie Harrison, Chief, Permits and Conservation Division, Office of Protected Resources.

Instructions: Comments must be submitted by one of the above methods. All comments received are a part of the public record and will generally be posted for public viewing on www.regulations.gov without change. All personal identifying information (e.g., name, address, etc.) submitted voluntarily by the sender will be publicly accessible. Do not submit confidential business information, or otherwise sensitive or protected information. NMFS will accept anonymous comments (enter “N/A” in the required fields if you wish to remain anonymous). Attachments to electronic comments will be accepted in Microsoft Word, Excel, or Adobe PDF file formats only.

Those individuals requesting a public hearing should submit a written request to the Chief, Permits and Conservation Division at the address listed above. The request should set forth the specific reasons why a hearing on this application would be appropriate.

FOR FURTHER INFORMATION CONTACT: Amy Sloan, Courtney Smith, or Jennifer Skidmore, (301) 427-8401.

SUPPLEMENTARY INFORMATION: The subject permit is requested under the authority of the Marine Mammal Protection Act of 1972, as amended (MMPA; 16 U.S.C. 1361 et seq.), and the regulations governing the taking and importing of marine mammals (50 CFR part 216).

Mystic Aquarium requests to import five (5) captive-born beluga whales from Marineland of Canada (Niagara Falls, Ontario, Canada) to Mystic Aquarium (Mystic, Connecticut, U.S.A.) for scientific research purposes to contribute knowledge and inform management and recovery of beluga populations in the wild, including the depleted Sakhalin Bay-Nikolaya Bay-Amur River beluga whale stock and the endangered Cook Inlet beluga whale distinct population segment. The subject beluga whales were born at Marineland of Canada and are progeny of beluga whales that originated from the depleted Sakhalin Bay-Nikolaya Bay-Amur River stock (81 FR 74711). The proposed research would occur year-round at Mystic Aquarium or Georgia Aquarium (Atlanta, Georgia, U.S.A.) and includes investigations on (1) the neuroimmunological response to environmental and anthropogenic stressors; (2) the development of novel non-invasive techniques to assess health in free-ranging and stranded beluga whales; (3) the hearing and physiological response to anthropogenic sound; (4) morphometrics to inform photogrammetry studies; (5) diving physiology; (6) microbiome; (7) behavior and reproduction; and 8) testing of prototype telemetry devices and cameras before deployment on wild beluga whales.

To accomplish these objectives, researchers would conduct the following procedures on the five whales using trained behaviors and voluntary participation: biological sampling (blood, exhalate, saliva, swabs, feces, skin scrapes); auditory evoked potential measurements (baseline audiograms and masked hearing sessions); photogrammetry (measurements, weight, photography/video); behavioral observations; ultrasound; and deployment of suction-cup attached devices. The whales would be placed on public display incidental to the proposed research. The requested duration of the permit is five years, the maximum duration of an MMPA permit.

In compliance with the National Environmental Policy Act of 1969 (42 U.S.C. 4321 et seq.), an initial determination has been made that the activity proposed is categorically excluded from the requirement to prepare an environmental assessment or environmental impact statement.

Concurrent with the publication of this notice in the Federal Register, NMFS is forwarding a copy of the application to the Marine Mammal Commission and its Committee of Scientific Advisors.

Dated: September 24, 2019.
Julia Marie Harrison,
Chief, Permits and Conservation Division, Office of Protected Resources, National Marine Fisheries Service.

[FR Doc. 2019-21288 Filed 9-30-19; 8:45 am]

BILLING CODE 3510-22-P